DEPARTMENT OF HEALTH AND HUMAN SERVICES

Centers for Disease Control and Prevention

[30Day-09-08AO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Proposed Project

Children's Peer Relations and the Risk for Injury at School—New—National Center for Injury Prevention and Control (NCIPC), Coordinating Center for Environmental Health and Injury Prevention (CCEHIP), Centers for Disease Control and Prevention (CDC).

Background and Brief Description

Injuries are responsible for more deaths than all other causes combined for people under 19. In 2003, the Centers for Disease Control and Prevention (CDC) estimated that, annually, one in four children sustained an injury severe enough to warrant medical care, school absence, or bed rest. It was determined that an investigation of modifiable risk factors for childhood injuries is necessary to improve the health of children.

The Division of Unintentional Injury Prevention at the CDC will investigate the relationship between a child's social behaviors and experiences at school and their school injuries. Peer nominated and teacher rated social behaviors will be collected and compared to injury rates measured in the school health room of 3rd-5th graders at one public elementary school with an ethnically diverse and lower socioeconomic status student body. From this data, a behavioral risk profile for injury will be derived. By learning which children are at risk based on various behavioral characteristics, successful secondary injury prevention strategies may be targeted when resources do not allow universal prevention. The main hypothesis of the study is that children with maladaptive behaviors and social experiences (e.g., aggression, bullying, social withdrawal, peer rejection) will be more at risk for injury than their well-adapted peers. An estimated 183 children and 14 teachers will be surveyed.

Information collected will include three data sources: (1) A one-time peer nomination of social behaviors and peer relationships; (2) a one-time teacher's report of data of the child's behavior that will reflect the child's behavior across a school year; and (3) a report of events from the school year as determined by school health room visits for injury. Injury event reports will be compiled by the school health room aide. By learning about risk factors for injuries at school, interventions may be created which can reduce the burden of injuries to children and the disruption to the child's classroom time. This effort may even impact the amount of time parents must take off from work to pick up their children.

There is no cost to respondents except for their time. The total estimated annualized burden hours are 211.

Estimated Annualized Burden Hours

Type of respondent | Instrument name | Number of respondents | Number of responses per respondent | Average burden per response (in hours)
Students | Demographic Checklist (“All About You”) | 183 | 1 | 5/60
| Peer Nomination Inventory (“Others At School”) | 183 | 1 | 40/60
Teachers | Social Behavior Rating Scale | 14 | 1 | 3
School Health Room Aide | Injury Abstraction Form | 1 | 1 | 32

Dated: November 21, 2008.
Maryam I. Daneshvar,
Acting Reports Clearance Officer, Centers for Disease Control and Prevention.

[FR Doc. E8-28553 Filed 12-1-08; 8:45 am]

BILLING CODE 4163-18-P